DEPARTMENT OF DEFENSE

Office of the Secretary

[Docket ID: DoD-2025-OS-0244]

Proposed Collection; Comment Request

AGENCY: Office of the Under Secretary of Defense for Acquisition and Sustainment (OUSD(A&S)), Department of Defense (DoD).

ACTION: 60-Day information collection notice.

SUMMARY: In compliance with the Paperwork Reduction Act of 1995, the OUSD(A&S) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 23, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Assistant Secretary of Defense for Energy, Installations, and Environment, 3400 Defense Pentagon, Washington, DC 20301-3400, POC: Angela Major, 571-372-5201.

SUPPLEMENTARY INFORMATION:

Title; Associated Form; and OMB Number: Application for Assignment to Housing, DD Form 1746, OMB Control Number 0704-AFAH.

Needs and Uses: The DD Form 1746 is used to for collection of information and supports DoDs commitment to determine assignment priority categories for housing active-duty service members, eligible civilians, local and Foreign Nationals to family housing on or off base, allows service members to communicate preferences regarding living accommodations, tracks all service members assigned to the installation, and aligns with our administration's priorities, such as reviving our warrior ethos by allowing service members to focus on their warfighter duties and missions, while providing support for family well-being and readiness.

Affected Public: Individuals and households.

Annual Burden Hours: 105,608.

Number of Respondents: 422,430.

Responses per Respondent: 1.

Annual Responses: 422,430.

Average Burden per Response: 15 minutes.

Frequency: Once.

Dated: July 22, 2025.
Aaron T. Siegel,
Alternate OSD Federal Register Liaison Officer, Department of Defense.

[FR Doc. 2025-14012 Filed 7-24-25; 8:45 am]

BILLING CODE 6001-FR-P